DEPARTMENT OF THE INTERIOR

National Park Service

Notice of Intent to Repatriate Cultural Items: Denver Museum of Nature & Science, Denver, CO

AGENCY: National Park Service, Interior.

ACTION: Notice.

This notice is published as part of the National Park Service's administrative responsibilities under NAGPRA, 25 U.S.C. 3003 (d)(3). The determinations in this notice are the sole responsibility of the museum, institution, or Federal agency that has control of the cultural items. The National Park Service is not responsible for the determinations in this notice.

The five cultural items are Navajo jish, represented by three medicine bundles (AC.11423A-J; AC.11424A-R; AC.11425A-L), one stone prayer club (AC.4918), and one fetish and its wrapping (AC.194A-B).

The first medicine bundle (AC.11423A-J) dates between about 1880 and 1920, and consists of one outer wrapping blanket (AC.11423A), two plain rattles (AC.11423B), three lightning rattles (AC.11423C), three eagle feather brushes (AC.11423D), eight medicine bows and arrows (AC.11423E), six small medicine bags (AC.11423F), and four horned hats (AC.11423G-J).

The second medicine bundle (AC.11424A-R) dates to an unknown period, and consists of one outer wrapping blanket (AC.11424A), four bullroarers (AC.11424B), three lightning rattles (AC.11424C), two small plain rattles (AC.11424D), four sacks of medicine (AC.11424E), one gourd rattle (AC.11424F), four prayer sticks and hide (AC.11424G), two small medicine bags (AC.11424H), one blue stone horse fetish (AC.11424I), one bag of minerals and grease (AC.11424J), four fetish amulets (AC.11424K), three painted shell pots (AC.11424L), eight medicine stones (AC.11424M), one turtle shell (AC.11424N), four claw necklaces (AC.11424O), two pairs of claw wristlets (AC.11424P-Q), and one pottery painted pot (AC.11424R).

The third medicine bundle (AC.11425A-L) dates between about 1880 and 1920, and consists of one outer wrapping blanket (AC.11425A); eight streamer racks made of wood, metal, and cloth (AC.11425B); two streamers made of wood, metal, and cloth (AC.11425C); two eagle feather brushes (AC.11425D); one set of fire sticks (AC.11425E); two hide bags (AC.11425F); nine small medicine bags (AC.11425G); one corn meal basket tray (AC.11425H); two feather prayer sticks (AC.11425I); one small hide (AC.11425J); one medicine bow and arrow (AC.11425K); and one lynx hide (AC.11425L).

The three medicine bundles were originally sold by a Navajo medicine man named Mike Salt or Ushie, from Sawmill, AZ. He sold them to an art dealer named Don Pablo of Scottsdale, AZ, who in turn sold the objects to Mr. Charles M. Eberhart of the Western Trading Post, located in Denver, CO. Mr. and Mrs. Eberhart donated the bundles to the museum in 1974.

The stone prayer club (AC.4918) dates to an unknown period. It is made from black slate and is approximately 11 x 3 inches in size. The club was originally accessioned as ldquo;Alaskan,” but then later changed to “probably Navajo.” This change was based on a similar object on display at the Navajo Museum of Ceremonial Arts in Santa Fe, NM, which had a label reading “Ceremonial knife (slate) held by medicine man or patient during certain acts of various ceremonies and pressed against certain parts of the patient's body to expel evil.” Furthermore, in 1978, two Navajo consultants visited the Denver Museum of Nature & Science, and explained that this item was “used ceremonially in prayer to ward off evil.” In 1959, the stone prayer club was purchased by Francis V. and Mary W.A. Crane at Southwest Indian Arts & Crafts, Santa Fe, NM. The Cranes later donated the club to the museum in 1983.

The fetish and wrapping (AC.194A-B) date to an unknown period. It is a carved stone with turquoise, white stone and black stone inlay; shell pieces; feathers; yarn; hide (AC.194A); and one calico cloth (AC.194B). These objects were accessioned as a “Navajo” “talking prayerstick.” In 1954, the fetish and wrapping were purchased by Francis V. and Mary W.A. Crane at Kohlberg's Antiques and Indian Arts, Denver, CO. The Cranes later donated the fetish and wrapping to the museum in 1972.

During consultation, representatives of the Navajo Nation provided detailed documentation to demonstrate Navajo rights of possession, and that the items are both objects of cultural patrimony and sacred objects. In particular, the tribe detailed that these Navajo jish are used in the Na'at'oyéé (The Male Shooting Way ceremony) and the Hochoiji (The Evil Way ceremony), which are still widely practiced by members of the present-day Navajo tribe. The Navajo people believe that jish are alive and must be treated with respect. The primary purpose of the jish is to cure people of diseases, mental and physical illness, and to restore beauty and harmony. Furthermore, the Navajo Nation asserts that no single individual can truly own any jish. These sacred objects are made by knowledgeable Navajo people and Hataaliis (Medicine persons) from animals and plants that unselfishly contributed themselves for the benefit of the Navajo people and the universe. In order to possess sacred jish, one must have the proper ceremonial knowledge with which to care and utilize them. The right to control jish is outlined by traditional laws, which vests this responsibility in Hataaliis. The Hataaliis only care, utilize, and bequeath jish for the Navajo people. Hataalii do not have the right to sell jish, because they do not own them, they are only caretakers on behalf of the Navajo people.

The extant anthropological literature substantiates these claims. Medicine bags are made during ceremonies out of “sacred” materials, stored in special places, used only in prescribed ritual contexts, and hold myriad articles to which supernatural properties are attributed. Anthropologists have documented, in particular, the use of jish in the Male Shooting Way and Evil Way ceremonies, and the ways in which the medicine objects are linked to traditional myths. Anthropologists have further documented that medicine bundles are sacred items, fundamental to the practice of traditional Navajo religion. Jish, used for ceremonial healing, are unique from Western notions of medicine in part because of the special sacred properties believed to be imbued in the bundles. Further, unlike Western medical objects, Navajos consider the jish to be animate and, therefore, are subject to culturally-defined rules for handling. Therefore, museum officials reasonably believe that the jish is a sacred object.

While the anthropological literature seems to be unanimous that jish are sacred objects, some scholars have suggested that they are alienable possessions. However, other scholars have documented that some Navajos consider certain bundles to be “indestructible property” that are “ultimately owned by a definable social group.” Other researchers emphasize that the medicine ceremonies belong to all Navajos and the bundles are cared for by entire clans. Additionally, some of the earliest documented efforts to collect jish (by Washington Matthews in 1888 and Stewart Culin in 1903), demonstrate that Navajos traditionally view jish as inalienable. Moreover, the courts have established that jish should be considered objects of cultural patrimony. In United States v. Corrow, 119 F.3d 796 (10th Cir. 1997), cert. denied, 522 U.S. 1133 (1998), the court held that jish fall within NAGPRA's definition of object of cultural patrimony. During consultation, the Navajo Nation insisted that the jish is a kind of clan property. When a holder of the jish dies and does not have a son or student to pass them on to, the jish reverts back to the clan. Therefore, museum officials reasonably believe that the jish is also an object of cultural patrimony.

Officials of the Denver Museum of Nature & Science have determined that, pursuant to 25 U.S.C. 3001 (3)(C), the five cultural items are specific ceremonial objects needed by traditional Native American religious leaders for the practice of traditional Native American religions by their present-day adherents. Officials of the Denver Museum of Nature & Science have also determined that, pursuant to 25 U.S.C. 3001 (3)(D), the five cultural items have ongoing historical, traditional, or cultural importance central to the Native American group or culture itself, rather than property owned by an individual. Lastly, officials of the Denver Museum of Nature & Science have determined that, pursuant to 25 U.S.C. 3001 (2), there is a relationship of shared group identity that can be reasonably traced between the sacred objects/objects of cultural patrimony and the Navajo Nation of Arizona, New Mexico & Utah.

Representatives of any other Indian tribe that believes itself to be culturally affiliated with the sacred objects/objects of cultural patrimony should contact Dr. Chip Colwell-Chanthaphonh, Curator of Anthropology, NAGPRA Officer, Department of Anthropology, Denver Museum of Nature & Science, 2001 Colorado Boulevard, Denver, CO 80205, telephone (303) 370-6378, before January 8, 2010. Repatriation of the sacred objects/objects of cultural patrimony to the Navajo Nation of Arizona, New Mexico & Utah may proceed after that date if no additional claimants come forward.

The Denver Museum of Nature & Science is responsible for notifying the Navajo Nation of Arizona, New Mexico & Utah that this notice has been published.

Dated: November 9, 2009.
David Tarler,
Acting Manager, National NAGPRA Program.

[FR Doc. E9-29299 Filed 12-9-09; 8:45 am]

BILLING CODE 4312-50-S